DEPARTMENT OF THE INTERIOR

National Park Service

National Register of Historic Places; Notification of Pending Nominations

Nominations for the following properties being considered for listing in the National Register were received by the National Park Service before March 18, 2000.

Pursuant to § 60.13 of 36 CFR Part 60 written comments concerning the significance of these properties under the National Register criteria for evaluation may be forwarded to the National Register, National Park Service, 1849 C St. NW, NC400, Washington, DC 20240. Written comments should be submitted by April 12, 2000.

Carol D. Shull,
Keeper of the National Register.

CALIFORNIA

Alameda County

Oakland Waterfront Warehouse District, Roughly bounded by I-880, Madison St., 2nd St., and Webster St., Oakland, 00000361

Amador County

Jackson Downtown Historic District, Roughly along Main St. from 215 Main St. to 14 Broadway, Jackson, 00000365

Contra Costa County

Richmond Shipyard Number Three, Point Potrero, Richmond, 00000364

Santa Barbara County

Herschell, Allan, 3-Abreast Carousel, 223 E. Cabrillo Blvd., Santa Barbara, 00000363

Santa Clara County

Spillman Engineering 3-Abreast Carousel, 139 B Eastridge Mall, San Jose, 00000366

Tehama County

Kraft, Herbert, Memorial Free Library, 909 Jefferson, Red Bluff, 00000362

COLORADO

Delta County

Surface Creek Livestock Company Silos, 315 SW 3rd St., Cedaredge, 00000367

Weld County

Parish, Harvey J., House, 701 Charlotte St., Johnstown, 00000368

CONNECTICUT

Hartford County

West End Library, 15 School St., Farmington, 00000369

GEORGIA

Newton County

Covington Mills and Mill Village Historic District, Roughly bounded by Wheat, Collins and Lott Sts. and, to the north, the Covington Mills pond and Creek, Covington, 00000370

Thomas County

MacIntyre Park and MacIntyre Park High School, 117 Glenwood Dr., Thomasville, 00000371

MAINE

Hancock County

Shore Acres, 791 Lamoine Beach Rd., Lamoine Beach, 00000373

Kennebec County

Oakland Public Library, (Maine Public Libraries MPS) 18 Church St., Oakland, 00000375

Lincoln County

Bremen Town Hall, (Former), Rte 32., 0.2 mi. N of Medomak Rd., Medomak, 00000372

Somerset County

Carrabasset Inn, Jct. of Union St. and ME 8, North Anson, 00000376

Waldo County

College Club Inn, 190 W. Main St., Searsport, 00000377

Springdale Farm, Horseback Rd., 0.5 mi. S of Troy Rd., Burnham, 00000374

MISSISSIPPI

Forrest County

Burkett's Creek Archeological Site, Address Restricted, Hattiesburg, 00000380

Lamar County

Municipal Courtroon and Jail, Old, 405 Pine St. at Railroad Ave., Sumrall, 00000379

Walthall County

New Orleans and Great Northern Railroad Depot— Tylertown, Franklin Hwy., Tylerton, 00000378

NEW YORK

Livingston County

Hartman, William, Farmstead, 9296 NY 63 N, Dansville, 00000381

PENNSYLVANIA

Bucks County

Quakertown Passenger and Freight Station, Front and East Broad Sts., Quakertown, 00000382

RHODE ISLAND

Providence County

Hope Street School, 40 Hope St., Woonsocket, 00000383

VERMONT

Bennington County

Orchards, The, 982 Mansion Dr., Bennington, 00000384

[FR Doc. 00-7573 Filed 3-27-00; 8:45 am]

BILLING CODE 4310-70-P